ENVIRONMENTAL PROTECTION AGENCY

[ER-FRL-8597-6]

Environmental Impacts Statements; Notice of Availability

Responsible Agency: Office of Federal Activities, General Information (202) 564-1399 or http://www.epa.gov/compliance/nepa/.

Weekly receipt of Environmental Impact Statements

Filed 09/14/2009 through 09/18/2009.

Pursuant to 40 CFR 1506.9.

EIS No. 20090324, Draft EIS, AFS, 00, Nebraska National Forests and Grassland Travel Management Project, Proposes to Designate Routes and Areas Open to Motorized Travel, Buffalo Gap National Grassland, Oglala National Grassland, Samuel R. McKelvie National Forest, and the Pine Ridge and Bessey Units of the Nebraska National Forest, Fall River, Custer, Pennington, Jackson Counties; SD and Sioux, Dawes, Cherry, Thomas and Blaine Counties, NE, Comment Period Ends: 11/09/2009, Contact: Mark Reichert, 530-841-4422.

EIS No. 20090325, Draft EIS, NHT, 00, Corporate Average Fuel Economy (CAFÉ) Standards Passenger Car and Light Trucks Model Years 2012-2016, To Reduce National Energy Consumption by Increasing the Fuel Economy of Passenger Car and Light Trucks sold in the United States, Implementation, Comment Period Ends: 11/09/2009, Contact: Jessica GT Wilson, 202-366-0176.

EIS No. 20090326, Final EIS, USN, FL, Naval Surface Warfare Center Panama City Division (NSWC PCD), Capabilities to Conduct New and Increased Mission Operations for the Department of Navy (DON) and Customers within the three Military Operating Area and St. Andrew Bay (SAB), Gulf of Mexico, FL, Wait Period Ends: 10/26/2009, Contact: Carmen Ferrer, 850-234-4146.

EIS No. 20090327, Final EIS, STB, AK, Northern Rail Extension Project, Construct and Operate a Rail Line between North Pole and Delta Junction, AK, Wait Period Ends: 10/26/2009, Contact: Dave Navecky, 202-245-0294.

EIS No. 20090328, Final EIS, FRC, 00, Phase VIII Expansion Project, Proposed to Construct, Own, Operate, and Maintain New Interstate National Gas Pipeline, Compressor, and Ancillary Facilities in Alabama and Florida, Wait Period Ends: 10/26/2009, Contact: Julia Bovey 1-866-208-3372.

EIS No. 20090329, Draft EIS, DOE, KS, Abengoa Biorefinery Project, To Support the Design, Construction, and Startup of a Commercial-Scale Integrated Biorefinery, Federal Funding, Located near the City Hugoton, Stevens County, KS, Comment Period Ends: 11/09/2009, Contact: Kristin Kerwin, 303-275-4968.

EIS No. 20090330, Draft EIS, USN, CA, Marine Corps Base Camp Pendleton Basewide Utilities Infrastructure Construct and Operate Six Utility Infrastructure Project, San Diego County, CA, Comment Period Ends: 11/09/2009, Contact: Jesse Martinez, 619-532-3844.

EIS No. 20090331, Final EIS, COE, CA, San Pedro Waterfront Project, Proposed Specific Development Project and Associated Infrastructure Improvements on Approximately 400 Acres, Currently Operated by Los Angeles Harbor Department (LAHD), Located along the West Side of Los Angeles Harbor's Main Channel, from the Vincent Thomas Bridge to Cabrillo Beach, US Army Section 10 and 404 and Section 103 Marine Protection, Research, and Sanctuaries Act Permits, (MPRSA) City of Los Angeles, CA, Wait Period Ends: 10/26/2009, Contact: Dr. Spencer D. MacNeil, 805-585-2152.

Amended Notices

EIS No. 20090267, Draft EIS, AFS, MT, Bitterroot National Forest Travel Management Planning, To Address Conflicts between Motorized and Non-Motorized Users, Ravalli County, MT, Comment Period Ends: 11/09/2009, Contact: Dan Ritter, 406-777-5461. Revision to FR Notice Published 08/07/2009: Extending Comment Period from 09/21/2009 to 11/09/2009.

EIS No. 20090272, Draft EIS, UAF, 00, Modification of the Condor 1 and Condor 2 Military Operation Areas, 104th Fighter Wing of the Massachusetts Air National Guard Base (ANG) Proposes to Combine the Condor 1 and Condor 2 MOA, ME and NH, Comment Period Ends: 01/01/2010, Contact: Jay Nash, 703-614-0346. Revision to FR Notice Published 08/07/2009: Extending Comment Period from 09/21/2009 to 11/09/2009.

EIS No. 20090277, Draft EIS, AFS, CO, Hermosa Park/Mitchell Lakes Land Exchange Project, Proposed Land Exchange between Federal and Non-Federal Lands, Implementation, Federal Land in LaPlata County and Non-Federal Land in San Juan County, CO, Comment Period Ends: 10/30/2009, Contact: Cindy Hockelberg, 970-884-1418. Revision to Federal Register Notice Published 08/17/2009: Extending Comment Period from 10/01/2009 to 10/30/2009.

EIS No. 20090311, Final EIS, USN, WA, Naval Base Kitsap—Bangor, Construct and Operate a Swimmer Interdiction Security System (SISS), Silverdale Kitsap County, WA, Wait Period Ends: 10/13/2009, Contact: Shannon Kasa, 619-553-3889. Revision to FR Notice Published 09/11/2009: Correction to Telephone Number.

Dated: September 22, 2009.
Robert W. Hargrove,
Director, NEPA Compliance Division, Office of Federal Activities.

[FR Doc. E9-23228 Filed 9-24-09; 8:45 am]

BILLING CODE 6560-50-P